DEPARTMENT OF TRANSPORTATION

Surface Transportation Board

[Docket No. FD 35492]

Atlantic and Western Railway, Limited Partnership—Trackage Rights Exemption—Norfolk Southern Railway Company

Pursuant to a written trackage rights agreement, Norfolk Southern Railway Company (NSR) has agreed to grant limited local trackage rights to Atlantic and Western Railway, Limited Partnership (ATW) ¹ over approximately 13.8 miles of NSR's rail line between milepost NS-279.9, NSR's connection with ATW, at Cumnock, NC and milepost 266.1 at Brickhaven, NC (the line).²

¹ By letter filed April 15, 2011, ATW corrects two places in its initial filing in which its corporate name was incorrectly identified as Atlantic and Western Railway Company, Limited Partnership.

² These trackage rights also include sufficient head/tail room at both ends of the line to safely conduct operations. According to the agreement, ATW's trackage rights are limited to providing local service to Noble Oil at Colon, NC, Lee Brick & Tile at Leebrick, NC, and General Shale Brick at Brickhaven, or their respective successors. In addition, the written trackage agreement does not permit ATW to handle coal.

The transaction is scheduled to be consummated on May 13, 2011, the effective date of the exemption (30 days after the exemption was filed).

The purpose of the transaction is to allow ATW to extend its existing rail service to the three customers located on the line.

As a condition to this exemption, any employees affected by the trackage rights will be protected by the conditions imposed in Norfolk & Western Railway—Trackage Rights—Burlington Northern, Inc., 354 I.C.C. 605 (1978), as modified in Mendocino Coast Railway—Lease and Operate—California Western Railroad, 360 I.C.C. 653 (1980).

This notice is filed under 49 CFR 1180.2(d)(7). If the notice contains false or misleading information, the exemption is void ab initio. Petitions to revoke the exemption under 49 U.S.C. 10502(d) may be filed at any time. The filing of a petition to revoke will not automatically stay the effectiveness of the exemption. Stay petitions must be filed by May 6, 2011 (at least 7 days before the exemption becomes effective).

An original and 10 copies of all pleadings, referring to Docket No. FD 35492, must be filed with the Surface Transportation Board, 395 E Street, SW., Washington, DC 20423-0001. In addition, a copy of each pleading must be served on Thomas J. Litwiler, Fletcher & Sippel LLC, 29 North Wacker Drive, Suite 920, Chicago, IL 60606.

Board decisions and notices are available on our Web site at http://www.stb.dot.gov.

Decided: April 25, 2011.
By the Board, Rachel D. Campbell, Director, Office of Proceedings.
Jeffrey Herzig,
Clearance Clerk.

[FR Doc. 2011-10372 Filed 4-28-11; 8:45 am]

BILLING CODE 4915-01-P